DEPARTMENT OF ENERGY

Federal Energy Regulatory Commission

Combined Notice of Filings # 1

May 25, 2007.

Take notice that the Commission received the following exempt wholesale generator filings:

Docket Numbers: EG07-53-000.

Applicants: Bethlehem Renewable Energy, LLC.

Description: Bethlehem Renewable Energy LLC submits its Notice of Self-Certification of Exempt Wholesale Generator Status.

Filed Date: 5/16/2007.

Accession Number: 20070521-0148.

Comment Date: 5 p.m. Eastern Time on Wednesday, June 6, 2007.

Take notice that the Commission received the following electric rate filings:

Docket Numbers: ER98-2782-012; ER01-1275-008; ER06-146-003

Applicants: Alliance Energy Marketing, LLC; AER NY-Gen, LLC; AG Energy, L.P.; Seneca Power Partners, L.P.; Sterling Power Partners, L.P.

Description: Notice of Change in Status of Alliance Energy Marketing, LLC, et al.

Filed Date: 5/23/2007.

Accession Number: 20070523-5022.

Comment Date: 5 p.m. Eastern Time on Wednesday, June 13, 2007.

Docket Numbers: ER01-989-004.

Applicants: Green Mountain Power Corporation.

Description: Non-Material Change-in-Status Report of Green Mountain Power Corporation.

Filed Date: 5/16/2007.

Accession Number: 20070516-5019.

Comment Date: 5 p.m. Eastern Time on Wednesday, June 6, 2007.

Docket Numbers: ER01-1699-008.

Applicants: Pilot Power Group, Inc.

Description: Pilot Power Group, Inc submits First Revised Sheet 1 to Rate Schedule FERC 1, effective 3/21/05 in compliance with Order 652.

Filed Date: 5/17/2007.

Accession Number: 20070521-0625.

Comment Date: 5 p.m. Eastern Time on Thursday, June 7, 2007.

Docket Numbers: ER01-3103-014.

Applicants: Astoria Energy LLC.

Description: Astoria Energy LLC submits the proposed Code of Conduct as a result of an indirect affiliate with Green Mountain Power Corporation.

Filed Date: 5/21/2007.

Accession Number: 20070524-0044.

Comment Date: 5 p.m. Eastern Time on Monday, June 11, 2007.

Docket Numbers: ER02-579-005; ER02-580-006.

Applicants: Capitol District Energy Center Cogeneration; Pawtucket Power Associates Limited Partnership

Description: Pawtucket Power Associates LP, et al reports a change in status pursuant to Order 652 etc.

Filed Date: 5/17/2007.

Accession Number: 20070521-0620.

Comment Date: 5 p.m. Eastern Time on Thursday, June 7, 2007.

Docket Numbers: ER03-1085-004.

Applicants: Covanta Union, Inc.

Description: Covanta Union, Inc submits its triennial market power update demonstrating that it continues to lack market power in generation and transmission and cannot erect barriers to entry.

Filed Date: 5/14/2007.

Accession Number: 20070516-0185.

Comment Date: 5 p.m. Eastern Time on Monday, June 4, 2007.

Docket Numbers: ER04-805-006.

Applicants: Wabash Valley Power Association, Inc.

Description: Wabash Valley Power Association, Inc submits an updated market power analysis pursuant to FERC's letter order issued on 7/1/04.

Filed Date: 5/16/2007.

Accession Number: 20070521-0150.

Comment Date: 5 p.m. Eastern Time on Wednesday, June 6, 2007.

Docket Numbers: ER05-1065-008.

Applicants: Entergy Services, Inc.

Description: Entergy Operating Companies submits revisions to the Available Flowgate Capability Process Manual, FERC Electric Tariff, Rate Schedule 1 etc in compliance with FERC's 4/24/06 Order et al.

Filed Date: 5/18/2007.

Accession Number: 20070522-0231.

Comment Date: 5 p.m. Eastern Time on Friday, June 8, 2007.

Docket Numbers: ER07-232-003.

Applicants: Aragonne Wind LLC.

Description: Aragonne Wind LLC notifies that the sales of test energy from the Facility commenced on 12/18/06 and submits Substitute Sheets 1 and 2 to FERC Electric Tariff, Original Volume 1 pursuant to FERC's 12/7/06 Order.

Filed Date: 5/16/2007.

Accession Number: 20070521-0149.

Comment Date: 5 p.m. Eastern Time on Wednesday, June 6, 2007.

Docket Numbers: ER07-539-001; ER07-540-001.

Applicants: Niagara Mohawk Power Corporation.

Description: Niagara Mohawk Power Corporation dba National Grid submits information in response to FERC's 3/30/07 deficiency letter and on May 22, 2007 submit a correction to this filing.

Filed Date: 5/16/2007; 5/22/07.

Accession Number: 20070521-0155.

Comment Date: 5 p.m. Eastern Time on Wednesday, June 6, 2007.

Docket Numbers: ER07-558-001.

Applicants: PacifiCorp.

Description: PacifiCorp submits a compliance filing pursuant to the Commission's 4/17/07 letter order.

Filed Date: 5/16/2007.

Accession Number: 20070516-5008.

Comment Date: 5 p.m. Eastern Time on Wednesday, June 6, 2007.

Docket Numbers: ER07-570-002.

Applicants: New York Independent System Operator, Inc.

Description: New York Independent System Operator, Inc submits revisions to its Market Administration and Control Area Services Tariff etc to comply with FERC's 4/17/07 Order.

Filed Date: 5/17/2007.

Accession Number: 20070521-0627.

Comment Date: 5 p.m. Eastern Time on Thursday, June 7, 2007.

Docket Numbers: ER07-643-001.

Applicants: Southwest Power Pool, Inc.

Description: Southwest Power Pool Inc submits Exhibit I a table of listing of its agreements in reference to its 3/21/07 filing.

Filed Date: 5/16/2007.

Accession Number: 20070521-0156.

Comment Date: 5 p.m. Eastern Time on Wednesday, June 6, 2007.

Docket Numbers: ER07-868-001.

Applicants: PJM Interconnection, L.L.C.

Description: PJM Interconnection, LLC supplements their 5/4/07 filing by submitting revisions to certain other provisions that parallel the Operating Agreement in the PJM Open-Access Transmission Tariff, FERC Electric Tariff, Sixth Revised Volume 1.

Filed Date: 5/18/2007.

Accession Number: 20070522-0229.

Comment Date: 5 p.m. Eastern Time on Friday, June 8, 2007.

Docket Numbers: ER07-881-001.

Applicants: Alliant Energy Corporate Services, Inc.

Description: Alliant Energy Corporate Services, Inc submits an amendment to its 5/10/07 filing.

Filed Date: 5/21/2007.

Accession Number: 20070524-0050.

Comment Date: 5 p.m. Eastern Time on Monday, June 11, 2007.

Docket Numbers: ER07-898-001.

Applicants: Baltimore Gas and Electric Company.

Description: Baltimore Gas and Electric Co resubmits its Second Revised Sheet 299A et al to FERC Electric Tariff, Sixth Revised Volume 1, effective 6/1/07.

Filed Date: 5/18/2007.

Accession Number: 20070521-0628.

Comment Date: 5 p.m. Eastern Time on Friday, June 8, 2007.

Docket Numbers: ER07-903-000.

Applicants: Bethlehem Renewable Energy, LLC.

Description: Bethlehem Renewable Energy LLC submits an application for ordering accepting market-base rate tariff, waiving certain requirements and granting authorizations and blanket authority.

Filed Date: 5/16/2007.

Accession Number: 20070521-0153.

Comment Date: 5 p.m. Eastern Time on Wednesday, June 6, 2007.

Docket Numbers: ER07-904-000.

Applicants: FPL Energy Point Beach, LLC.

Description: FPL Energy Point Beach, LLC submits a request for authorization to sell energy and capacity at market-based rates.

Filed Date: 5/16/2007.

Accession Number: 20070521-0152.

Comment Date: 5 p.m. Eastern Time on Wednesday, June 6, 2007.

Docket Numbers: ER07-907-000.

Applicants: Bruce Power Inc.

Description: Petition of Bruce Power Inc for order accepting Market-Based Rate Schedule for filing and granting waivers and blanket approvals.

Filed Date: 5/17/2007.

Accession Number: 20070521-0624.

Comment Date: 5 p.m. Eastern Time on Thursday, June 7, 2007.

Docket Numbers: ER07-908-000.

Applicants: New York State Electric & Gas Corporation.

Description: New York State Electric & Gas Corp submits a Notice of Termination and a Notice of Filing requesting that FERC terminate its Rate Schedule 229 with New York Power Authority, effective 8/31/07.

Filed Date: 5/17/2007.

Accession Number: 20070521-0623.

Comment Date: 5 p.m. Eastern Time on Thursday, June 7, 2007.

Docket Numbers: ER07-909-000.

Applicants: PJM Interconnection, L.L.C.

Description: PJM Interconnection, LLC submits revisions to FERC Electric Tariff, Third Revised Rate Schedule 24.

Filed Date: 5/18/2007.

Accession Number: 20070521-0622.

Comment Date: 5 p.m. Eastern Time on Friday, June 8, 2007.

Docket Numbers: ER07-910-000.

Applicants: Baltimore Gas and Electric Company.

Description: Baltimore Gas and Electric Co resubmits Second Revised Sheet 299A et al to FERC Electric Tariff, Sixth Revised Volume 1, effective 6/1/07.

Filed Date: 5/18/2007.

Accession Number: 20070521-0628.

Comment Date: 5 p.m. Eastern Time on Friday, June 8, 2007.

Docket Numbers: ER07-922-000.

Applicants: Westar Energy, Inc.

Description: Westar Energy, Inc requests waiver of the May 15, 2007 Posting Date set forth in Section I.3 of Attachment H-2 of the Open Access Transmission Tariff.

Filed Date: 5/22/2007.

Accession Number: 20070524-0039.

Comment Date: 5 p.m. Eastern Time on Tuesday, June 12, 2007.

Docket Numbers: ER07-924-000.

Applicants: Kansas City Power & Light Company.

Description: Kansas City Power & Light Co submits the initial rate schedules for Electric Interconnection and Delivery Service.

Filed Date: 5/22/2007.

Accession Number: 20070524-0040.

Comment Date: 5 p.m. Eastern Time on Tuesday, June 12, 2007.

Docket Numbers: ER07-925-000.

Applicants: MidAmerican Energy Company.

Description: MidAmerican Energy Co submits Second Revised Sheet 11 et al to FERC Electric Tariff, Second Revised Volume 8, to be effective 3/1/07.

Filed Date: 5/22/2007.

Accession Number: 20070524-0041.

Comment Date: 5 p.m. Eastern Time on Tuesday, June 12, 2007.

Docket Numbers: ER07-926-000.

Applicants: PJM Interconnection, L.L.C.

Description: PJM Interconnection LLC submits an amendment to Schedule 2 to reflect corporate name of LSP-Kendall Energy, LLC to Dynegy Kendall Energy LLC, effective April 2, 2007.

Filed Date: 5/23/2007.

Accession Number: 20070523-5017.

Comment Date: 5 p.m. Eastern Time on Wednesday, June 13, 2007.

Docket Numbers: ER07-927-000.

Applicants: Entergy Services, Inc.

Description: Entergy Services, Inc agent for Entergy Arkansas, Inc et al submits the annual informational filing containing the 2007 rate redetermination in accordance with the annual rate redetermination provisions of Appendix 1 etc.

Filed Date: 5/22/2007.

Accession Number: 20070524-0051.

Comment Date: 5 p.m. Eastern Time on Tuesday, June 12, 2007.

Docket Numbers: ER07-928-000.

Applicants: Southern California Edison Company.

Description: Southern California Edison Company submits Fourth Revised Sheet 41 et al to the Amended and Restated Huntington Beach Generating Station Radial Lines Agreement with AES Huntington Beach, LLC, effective 7/23/07.

Filed Date: 5/23/2007.

Accession Number: 20070524-0042.

Comment Date: 5 p.m. Eastern Time on Wednesday, June 13, 2007.

Docket Numbers: ER07-929-000.

Applicants: Southern California Edison Company.

Description: Southern California Edison submits First Revised Sheet 3 et al to FERC Electric Tariff, Second Revised Volume 6, effective 7/23/07.

Filed Date: 5/23/2007.

Accession Number: 20070524-0037.

Comment Date: 5 p.m. Eastern Time on Wednesday, June 13, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Kimberly D. Bose,
Secretary.

[FR Doc. E7-10552 Filed 5-31-07; 8:45 am]

BILLING CODE 6717-01-P